INTERNATIONAL TRADE COMMISSION

Agency Form Submitted for OMB Review

AGENCY: United States International Trade Commission.

ACTION: In accordance with the provisions of the Paperwork Reduction Act of 1995 (44 U.S.C. Chapter 35), the Commission has submitted an emergency request for approval of questionnaires to the Office of Management and Budget (OMB) for review. The Commission has requested OMB approval by August 15, 2003.

EFFECTIVE DATE: July 29, 2003.

Purpose of Information Collection

The forms are for use by the Commission in connection with investigation No. 332-453, Conditions of Competition for Milk Proteins in the U.S. Market, instituted under the authority of section 332(g) of the Tariff Act of 1930 (19 U.S.C. 1332(g)). This investigation was requested by the Senate Committee on Finance. The Commission expects to deliver the results of its investigation to the Committee by May 14, 2004.

Summary of Proposal

(1) Number of forms submitted: three.

(2) Title of form: Conditions of Competition for Milk Proteins in the U.S. Market-Questionnaires for U.S. Purchasers, Importers, and Foreign Producers.

(3) Type of request: new.

(4) Frequency of use: Purchasers, Importers, and Foreign Producers questionnaire, single data gathering, scheduled for August 20—September 19, 2003.

(5) Description of respondents: U.S. firms which purchase, import or produce milk protein products.

(6) Estimated number of respondents:

250 (Purchaser questionnaire)

185 (Importer questionnaire)

25 (Foreign Producer questionnaire)

(7) Estimated total number of hours to complete the forms: 9,075.

(8) Information obtained from the form that qualifies as confidential business information will be so treated by the Commission and not disclosed in a manner that would reveal the individual operations of a firm.

FOR FURTHER INFORMATION CONTACT: Copies of the forms and supporting documents may be obtained from Jonathan Coleman (USITC, telephone no. (202) 205-3465). Comments about the proposals should be directed to the Office of Management and Budget, Office of Information and Regulatory Affairs, Room 10102 (Docket Library), Washington, DC 20503, ATTENTION: Desk Officer for International Trade Commission. All comments should be specific, indicating which part of the questionnaire is objectionable, describing the concern in detail, and including specific suggested revisions or language changes. Copies of any comments should be provided to Robert Rogowsky, Director, Office of Operations, U.S. International Trade Commission, 500 E Street SW., Washington, DC 20436, who is the Commission's designated Senior Official under the Paperwork Reduction Act. DATES: To be assured of consideration, written comments must be submitted to OMB and to the Commission by August 11, 2003.

Hearing impaired individuals are advised that information on this matter can be obtained by contacting our TTD terminal (telephone no. 202-205-1810). General information concerning the Commission may also be obtained by accessing its Internet server (http://www.usitc.gov).

Issued: July 29, 2003.
By order of the Commission.
Marilyn R. Abbott,
Secretary to the Commission.

[FR Doc. 03-19612 Filed 7-31-03; 8:45 am]

BILLING CODE 7020-02-P